DEPARTMENT OF ENERGY

Federal Energy Regulatory Commission

[Project No. 15230-001]

Pike Island Hydropower Corporation; Notice of Intent To File License Application, Filing of Pre-Application Document, Approving Use of the Traditional Licensing Process

a. Type of Filing: Notice of Intent to File License Application and Request to Use the Traditional Licensing Process.

b. Project No.: 15230-001.

c. Date Filed: August 2, 2021.

d. Submitted By: Pike Island Hydropower Corporation.

e. Name of Project: Pike Island Locks and Dam Hydroelectric Project.

f. Location: At the U.S. Army Corps of Engineers' (Corps) Pike Island Locks and Dam on the Ohio River near the Village of Yorkville in Belmont and Jefferson Counties, Ohio, and Ohio County, West Virginia. The project would occupy federal land administered by the Corps.

g. Filed Pursuant to: 18 CFR 5.3 of the Commission's regulations.

h. Potential Applicant Contact(s): Mr. Joel Herm, P.O. Box 224, Rhinebeck, 12572-0224; (917) 224-3607; joel@currenthydro.com.

i. FERC Contact: Jay Summers at (202) 502-8764; or at jay.summers@ferc.gov.

j. Pike Island Hydropower Corporation filed its request to use the Traditional Licensing Process on August 2, 2021, and provided public notice of its request on August 2, 2021 and August 9, 2021. In a letter dated February 3, 2022, the Director of the Division of Hydropower Licensing approved Pike Island Hydropower Corporation's request to use the Traditional Licensing Process.

k. With this notice, we are initiating informal consultation with the U.S. Fish and Wildlife Service under section 7 of the Endangered Species Act and the joint agency regulations thereunder at 50 CFR, Part 402; and NOAA Fisheries under section 305(b) of the Magnuson-Stevens Fishery Conservation and Management Act and implementing regulations at 50 CFR 600.920. We are also initiating consultation with the Ohio and West Virginia State Historic Preservation Officers, as required by section 106, National Historic Preservation Act, and the implementing regulations of the Advisory Council on Historic Preservation at 36 CFR 800.2.

l. With this notice, we are designating Pike Island Hydropower Corporation as the Commission's non-federal representative for carrying out informal consultation pursuant to section 7 of the Endangered Species Act; and consultation pursuant to section 106 of the National Historic Preservation Act.

m. Pike Island Hydropower Corporation filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued on March 13, 2020. For assistance, contact FERC Online Support at FERCOnlineSupport@ferc.gov, (866) 208-3676 (toll free), or (202) 502-8659 (TTY).

Register online at https://ferconline.ferc.gov/FERCOnline.aspx to be notified via email of new filing and issuances related to this or other pending projects. For assistance, contact FERC Online Support.

Dated: February 3, 2022.
Kimberly D. Bose,
Secretary.

[FR Doc. 2022-02702 Filed 2-8-22; 8:45 am]

BILLING CODE 6717-01-P